DEPARTMENT OF DEFENSE

Department of the Army, Corps of Engineers

33 CFR Part 328

ENVIRONMENTAL PROTECTION AGENCY

40 CFR Parts 110, 112 116, 117, 122, 230, 232, 300, 302, and 401

[EPA-HQ-OW-2017-0203; FRL-9966-81-OW]

RIN 2040-AF74

Definition of “Waters of the United States”—Recodification of Pre-Existing Rules; Extension of Comment Period

AGENCY: Department of the Army, Corps of Engineers, Department of Defense; and Environmental Protection Agency (EPA).

ACTION: Proposed rule; Extension of comment period.

SUMMARY: The U.S. Environmental Protection Agency (EPA) and the U.S. Department of the Army are extending the comment period for the proposed rule “Definition of `Waters of the United States'—Recodification of Pre-existing Rules.” The agencies are extending the comment period for 30 days in response to stakeholder requests for an extension, from August 28, 2017 to September 27, 2017.

DATES: The comment period for the proposed rule published on July 27, 2017, at 82 FR 34899, is extended. Comments must be received on or before September 27, 2017.

ADDRESSES: Submit your comments, identified by Docket ID No. EPA-HQ-OW-2017-0203, at http://www.regulations.gov. Follow the online instructions for submitting comments. Once submitted, comments cannot be edited or removed from Regulations.gov. The agencies may publish any comment received to the public docket. Do not submit electronically any information you consider to be Confidential Business Information (CBI) or other information whose disclosure is restricted by statute. Multimedia submissions (audio, video, etc.) must be accompanied by a written comment. The written comment is considered the official comment and should include discussion of all points you wish to make. The agencies will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: Ms. Donna Downing, Office of Water (4504-T), Environmental Protection Agency, 1200 Pennsylvania Avenue NW., Washington, DC 20460; telephone number: (202) 566-2428; email address: CWAwotus@epa.gov; or Ms. Stacey Jensen, Regulatory Community of Practice (CECW-CO-R), U.S. Army Corps of Engineers, 441 G Street NW., Washington, DC 20314; telephone number: (202) 761-5903; email address: USACE_CWA_Rule@usace.army.mil.

SUPPLEMENTARY INFORMATION: On July 27, 2017 (82 FR 34899), the EPA and the U.S. Department of the Army published the proposed rule “Definition of `Waters of the United States'—Recodification of Pre-existing Rules” in the Federal Register. The original deadline to submit comments was August 28, 2017. This action extends the comment period for 30 days. Written comments must now be received by September 27, 2017.

Dated: August 16, 2017.
Michael H. Shapiro,
Acting Assistant Administrator for Water, Environmental Protection Agency.
Dated: August 16, 2017.
Douglas W. Lamont,
Deputy Assistant Secretary of the Army (Project Planning and Review), performing the duties of the Assistant Secretary of the Army for Civil Works.

[FR Doc. 2017-17739 Filed 8-21-17; 8:45 am]

BILLING CODE 6560-50-P